DEPARTMENT OF THE INTERIOR

Bureau of Land Management

[MTM-56312-01]

Public Land Order No. 7945; Extension of Public Land Order No. 6560, as Extended by Public Land Order No. 7610; Withdrawal of Wisdom Administrative Site; Montana

AGENCY: Bureau of Land Management, Interior.

ACTION: Public land order.

SUMMARY: This Public Land Order (PLO) extends the duration of the withdrawal created by PLO No. 6560, as extended by PLO No. 7610, which would otherwise expire August 5, 2024, for an additional 20-year period. PLO No. 6560 withdrew 59.99 acres of public domain land outside the exterior boundary of the Beaverhead-Deerlodge National Forest from settlement, sale, location, or entry, under the general land laws, including the mining laws, subject to valid existing rights, and transferred administrative jurisdiction to the United States Forest Service (USFS) for use as the Wisdom Administrative Site.

DATES: This PLO takes effect on August 6, 2024.

FOR FURTHER INFORMATION CONTACT: Adam Carr, Branch Chief, Realty Lands and Renewable Energy, BLM Montana/Dakotas, 5001 South Gate Drive, Billings, Montana 59101, telephone: (406) 538-1957; email: acarr@blm.gov; or Nathan Teats, Land Status Program Manager, U.S. Forest Service Region One, Office of the Regional Forester, 26 Fort Missoula Road, Missoula Montana 59804, telephone: (406) 329-3193 or email: nathan.e.teats@usda.gov.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The purpose for which the withdrawal was first made requires the withdrawal extension in order to continue to protect and preserve the USFS managed Wisdom Administrative Site, facilities, and capital improvements.

Order

By virtue of the authority vested in the Secretary of the Interior by section 204 of the Federal Land Policy and Management Act of 1976, 43 U.S.C. 1714, it is ordered as follows:

1. Subject to valid existing rights, PLO No. 6560 (49 FR 32068, (1984)), as extended

by PLO No. 7610 (69 FR 50213, (2004)), which withdrew 59.99 acres of public domain land outside the exterior boundary of the Beaverhead-Deerlodge National Forest from settlement, sale, location, or entry under the general land laws, including the mining laws, and transferred administrative jurisdiction to the USFS to protect and preserve the Wisdom Administrative Site, is hereby extended for an additional 20-year period. The lands being withdrawn in this order are described as follows:

Principal Meridian, Montana

T. 2 S., R. 15 W.,

Sec. 34, Tract A of Certificate of Survey 369, document number 171983 recorded June 25, 1982, filed in Beaverhead County, Montana.

T. 3 S., R. 15 W.,

Sec. 3, Tract B of Certificate of Survey 369, document number 171983 recorded June 25, 1982, filed in Beaverhead County, Montana.

The area described contains 59.99 acres.

2. The withdrawal made by this order does not alter the applicability of those public land laws governing the use of land other than under the United States mining laws.

3. The withdrawal extended by this Order will expire 20 years from the effective date of this order, unless, as a result of review conducted prior to the expiration date pursuant to section 204(f) of the Federal Land Policy and Management Act of 1976, 43 U.S.C. 1714(f), the Secretary determines the withdrawal shall be further extended.

(Authority: 43 U.S.C. 1714)

Robert T. Anderson,
Solicitor.

[FR Doc. 2024-17357 Filed 8-2-24; 8:45 am]

BILLING CODE 3411-15-P